FEDERAL COMMUNICATIONS COMMISSION

Notice of Public Information Collection(s) Being Reviewed by the Federal Communications Commission for Extension Under Delegated Authority, 5 CFR Part 1320 Authority, Comments Requested

January 23, 2002.

SUMMARY: The Federal Communications Commission, as part of its continuing effort to reduce paperwork burden, invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on or before April 2, 2002.

ADDRESSES: Direct all comments to Les Smith, Federal Communications Commissions, Room 1-A804, 445 12th Street, SW, Washington, DC 20554 or via the Internet to lesmith@fcc.gov.

FOR FURTHER INFORMATION CONTACT: For additional information or copies of the information collections contact Les Smith at 202-418-0217 or via the Internet at lesmith@fcc.gov.

SUPPLEMENTARY INFORMATION: OMB Control Number: 3060-0841.

Title: Public Notice—Additional Processing Guidelines for DTV (nonchecklist applications).

Form Numbers: FCC 301/340.

Type of Review: Extension of currently approved collection.

Respondents: Businesses or other for-profit entities; Not-for-profit institutions.

Number of Respondents: 100.

Estimated Time Per Response: 3 hours.

Frequency of Response: On occasion reporting requirements.

Total Annual Burden: 300 hours.

Total Annual Cost: $360,000.

Needs and Uses: The FCC released a public notice on August 10, 1998 that explained how “nonchecklist” applications, i.e., applications that do not conform to certain criteria to enable “fast-track processing,” would be processed for DTV station construction permits. This public notice explained what should be included in engineering showings and other types of application exhibits and cover letters. The public notice for “nonchecklist” applications should help to resolve processing uncertainties, enable the preparation of complete and quality applications, and hasten the authorization of DTV service. The FCC staff will use these data to ensure that interference to other DTV and NTSC stations is minimized.

OMB Control Number: 3060-1001.

Title: Application for Extension of Time to Construct a Digital Television Broadcast Station.

Form Number: FCC 337.

Type of Review: Extension of currently approved collection.

Respondents: Businesses or other for-profit, not-for-profit institutions.

Number of Respondents: 600.

Estimated Hours Per Response: 1.5 to 4 hours.

Frequency of Response: On occasion reporting requirements.

Total Annual Burden: 400 hours.

Total Annual Cost: $79,006.

Needs and Uses: FCC Form 337 is used by permittees to apply for an extension of time within which to construct a commercial or noncommercial educational digital television station (DTV). The FCC uses the data to determine, on a case-by-case basis, whether a broadcaster should be afforded additional time to construct its DTV facilities. In addition, analog TV licensees may request special temporary authority (STA) to construct more minimal initial DTV facilities than those specified in an outstanding construction permit. The STA data are used by the FCC to determine whether the DTV permittee has constructed and is operating with the minimum initial DTV facilities sufficient to meet its construction deadline.

Federal Communications Commission.
William F. Caton,
Acting Secretary.

[FR Doc. 02-2464 Filed 1-31-02; 8:45 am]

BILLING CODE 6712-01-P